DEPARTMENT OF THE TREASURY

Internal Revenue Service

Agency Information Collection Activities; Comment Request on U.S. Trust and Estate Income Tax Returns and Related Forms, Schedules, Attachments, and Published Guidance

AGENCY: Internal Revenue Service (IRS), Treasury.

ACTION: Notice of information collection; request for comments.

SUMMARY: In accordance with the Paperwork Reduction Act of 1995, the IRS is inviting comments on the information collection request outlined in this notice.

DATES: Written comments should be received on or before September 22, 2025 to be assured of consideration.

ADDRESSES: Direct all written comments to Andres Garcia, Internal Revenue Service, Room 6526, 1111 Constitution Avenue NW, Washington, DC 20224, or by email to pra.comments@irs.gov. Include “OMB Control No. 1545-0092” in the subject line of the message.

FOR FURTHER INFORMATION CONTACT: View the latest drafts of the tax forms related to the information collection listed in this notice at https://www.irs.gov/draft-tax-forms. Requests for additional information or copies of this collection should be directed to Jason M. Schoonmaker, 801-620-2128.

SUPPLEMENTARY INFORMATION: The IRS, in accordance with the Paperwork Reduction Act of 1995 (PRA) (44 U.S.C. 3506(c)(2)(A)), provides the general public and Federal agencies with an opportunity to comment on proposed, revised, and continuing collections of information. This helps the IRS assess the impact and minimize the burden of its information collection requirements. Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Tax Compliance Burden

Tax compliance burden is defined as the time and money taxpayers spend to comply with their tax filing responsibilities. Time-related activities include recordkeeping, tax planning, gathering tax materials, learning about the law, and completing and submitting the return. Out-of-pocket costs include expenses such as purchasing tax software, paying a third-party preparer, and printing and postage. Tax compliance burden does not include a taxpayer's tax liability, economic inefficiencies caused by sub-optimal choices related to tax deductions or credits, or psychological costs.

Proposed PRA Submission to OMB

Title: U.S. Trust and Estate Income Tax Returns and Related Forms, Schedules, Attachments, and Published Guidance.

OMB Number: 1545-0092.

Form Numbers and Published Guidance: 1041, 1041 A, 1041 ES, 1041 ES (OCR), 1041 N, 1041 QFT, 1041 SCH D, 1041 SCH I, 1041 SCH J, 1041 SCH K-1, 1041 T, 1041 V, 172, 461, 926, 965 A, 970, 982, 1040 SCH C, 1040 SCH E, 1040 SCH F, 1040 SCH H, 1045, 1065 SCH D, 1065 SCH K-2, 1116, 1116 SCH B, 1116 SCH C, 2210, 2210 F, 2439, 3115, 3468, 3800, 3800 SCH A, 4136, 4255, 4562, 4684, 4797, 4952, 4970, 4972, 5213, 5227, 5329, 5471, 5471 SCH E, 5471 SCH G1, 5471 SCH H, 5471 SCH I1, 5471 SCH J, 5471 SCH M, 5471 SCH O, 5471 SCH P, 5471 SCH Q, 5471 SCH R, 5713, 5713 SCH B, 5713 SCH C, 5884, 5884 A, 6198, 6252, 6478, 6765, 6781, 7203, 7204, 7205, 7207, 7210, 7211, 7213, 7217, 7218, 7220, 8082, 8283, 8275, 8275 R, 8453 FE, 8582, 8582 CR, 8586, 8594, 8609 A, 8611, 8621, 8621 A, 8697, 8801, 8820, 8824, 8825, 8826, 8829, 8830, 8833, 8834, 8835, 8838, 8838 P, 8844, 8845, 8846, 8855, 8858, 8858 SCH M, 8864, 8865, 8865 SCH G, 8865 SCH H, 8865 SCH K-1, 8865 SCH K-2, 8865 SCH K-3, 8865 SCH O, 8865 SCH P, 8866, 8873, 8874, 8879 F, 8881, 8882, 8883, 8886, 8896, 8900, 8903, 8904, 8906, 8908, 8911, 8911 SCH A, 8912, 8913, 8918, 8932, 8933, 8933 SCH A, 8933 SCH B, 8933 SCH C, 8933 SCH D, 8933 SCH E, 8933 SCH F, 8936, 8938, 8941, 8949, 8960, 8975, 8975 SCH A, 8978, 8978 SCH A, 8990, 8992, 8992 SCH A, 8994, 8995, 8995 A, 8995 A SCH A, 8995 A SCH B, 8995 A SCH C, 8995 A SCH D, 8997, T, and all related forms, schedules, and attachments.

Abstract: These forms, schedules, and attachments are used by trusts and estates to report their income tax liability. This information collection request covers the burden associated with preparing and submitting trust and estate income tax returns and related forms, schedules, and attachments, and complying with published guidance.

Current Actions: There have been changes in regulatory guidance related to various forms approved under this approval package during the past year. There have been additions and removals of forms included in this approval package. It is anticipated that these changes will have an impact on the overall burden and cost estimates requested for this approval package, however these estimates were not finalized at the time of release of this notice. These estimated figures are expected to be available by the release of the 30-day comment notice from Treasury. This approval package is being submitted for renewal purposes.

Type of Review: Revision of a currently approved collection.

Affected Public: Trusts and Estates.

Preliminary Estimated Number of Respondents: 3,240,000.

Preliminary Estimated Total Time (Hours): 33,700,000.

Preliminary Estimated Time per Respondent (Hours): 10 hours 24 minutes.

Preliminary Estimated Monetized Time ($): 2,333,000,000.

Preliminary Estimated Out-of-Pocket Costs ($): 6,139,000,000.

Preliminary Estimated Total Monetized Burden ($): 8,471,000,000.

Note: Total Monetized Burden = Out-of-Pocket Costs + Monetized Time August 27, 2025.

Dated: July 18, 2025.
Jason M. Schoonmaker,
Tax Analyst.

Appendix-A—Forms and Schedules
Form No. | Title
1041 | U.S. Income Tax Return for Estates and Trusts.
1041-A | U.S. Information Return Trust Accumulation of Charitable Amounts.
1041-ES | Estimated Tax for Estates and Trusts.
1041-ES (OCR) | Estimated Tax Vouchers Package 1041ES (OCR).
1041-N | U.S. Income Tax Return for Electing Alaska Native Settlement.
1041-QFT | U.S. Income Tax Return for Qualified Funeral Trusts.
1041-SCH D | Capital Gains and Losses.
1041 SCH I | Alternative Minimum Tax—Estates and Trusts.
1041 SCH J | Accumulation Distribution for Certain Complex Trusts.
1041 SCH K-1 | Beneficiary's Share of Income, Deductions, Credits, etc.
1041-T | Allocation of Estimated Tax Payments to Beneficiaries (Under Code section 643(g)).
1041-V | Payment Voucher.
172 | Net Operating Losses (NOLs) for Individuals, Estates, and Trusts.
461 | Limitation on Business Losses.
926 | Return by a U.S. Transferor of Property to a Foreign Corporation.
965-A | Form 965-A, Individual Report of Net 965 Tax Liability.
970 | Application To Use LIFO Inventory Method.
982 | Reduction of Tax Attributes Due to Discharge of Indebtedness (And Section 1082 Basis Adjustment).
1040 SCH C | Profit or Loss from Business (Sole Proprietorship).
1040 SCH E | Supplemental Income and Loss.
1040 SCH F | Profit or Loss from Farming.
1040 SCH H | Household Employment Taxes.
1045 | Application for Tentative Refund.
1065 SCH D | Capital Gains and Losses.
1065 SCH K-2 | Partners Distributive Share Items—International.
1116 | Foreign Tax Credit.
1116 SCH B | Foreign Tax Credit.
1116 SCH C | Foreign Tax Credit.
2210 | Underpayment of Estimated Tax by Individuals, Estates and Trusts.
2210-F | Underpayment of Estimated Tax by Farmers and Fisherman.
2439 | Notice to Shareholder of Undistributed Long-Term Capital Gains.
3115 | Application for Change in Accounting Method.
3468 | Investment Credit.
3800 | General Business Credit.
3800 SCH A | Transfer Election Statement.
4136 | Credit for Federal Tax Paid on Fuels.
4255 | Recapture of Investment Credit.
4562 | Depreciation and Amortization (Including Information on Listed Property).
4684 | Casualties and Thefts.
4797 | Sales of Business Property.
4952 | Investment Interest Expense Deduction.
4970 | Tax on Accumulation Distribution of Trusts.
4972 | Tax on Lump-Sum Distributions.
5213 | Election to Postpone Determination as To Whether the Presumption Applies That an Activity is Engaged in for Profit.
5227 | Split-Interest Trust Information Return.
5329 | Additional Taxes on Qualified Plans (Including IRAs) and Other Tax-Favored Accounts.
5471 | Information Return of U.S. Persons With Respect to Certain Foreign Corporations.
5471 SCH E | Income, War Profits, and Excess Profits Taxes Paid or Accrued.
5471 SCH G1 | Cost Sharing Arrangement.
5471 SCH H | Current Earnings and Profits.
5471 SCH I1 | Information for Global Intangible Low-Taxed Income.
5471 SCH J | Accumulated Earnings and Profits (E&P) of Controlled Foreign Corporation.
5471 SCH M | Transactions Between Controlled Foreign Corporation and Shareholders or Other Related Persons.
5471 SCH O | Organization or Reorganization of Foreign Corporation and Acquisitions and Dispositions of its Stock.
5471 SCH P | Previously Taxed Earnings and Profits of U.S. Shareholder of Certain Foreign Corporations.
5471 SCH Q | CFC Income by CFC Income Groups.
5471 SCH R | Distributions From a Foreign Corporation.
5713 | International Boycott Report.
5713 SCH B | Specifically Attributable Taxes and Income (Section 999(c)(2)).
5713 SCH C | Tax Effect of The International Boycott Provisions.
5884 | Work Opportunity Credit.
5884-A | Employee Retention Credit for Employers Affected by Qualified Disasters.
6198 | At-Risk Limitations.
6252 | Installment Sale Income.
6478 | Biofuel Producer Credit.
6765 | Credit for Increasing Research Activities.
6781 | Gains and Losses from Section 1256 Contracts and Straddles.
7203 | S Corporation Shareholder Stock and Debt Basis Limitations.
7204 | Consent to Extend the Time to Assess Tax Related to Contested Foreign Income Taxes—Provisional Foreign Tax Credit Agreement.
7205 | Energy Efficient Commercial Buildings Deduction.
7207 | Advanced Manufacturing Production Credit.
7210 | Clean Hydrogen Production Credit.
7211 | Clean Electricity Production Credit.
7213 | Nuclear Power Production Credit.
7217 | Partner's Report of Property Distributed by a Partnership.
7218 | Clean Fuel Production Credit.
7220 | Prevailing Wage and Apprenticeship (PWA) Verification and Corrections.
8082 | Notice of Inconsistent Treatment or Administrative Adjustment Request (AAR).
8275 | Disclosure Statement.
8275-R | Regulation Disclosure Statement.
8283 | Noncash Charitable Contribution.
8453-FE | U.S. Estate or Trust Declaration for an IRS e-file Return.
8582 | Passive Activity Loss Limitations.
8582-CR | Passive Activity Credit Limitations.
8586 | Low-Income Housing Credit.
8594 | Asset Acquisition Statement.
8609-A | Annual Statement for Low-Income Housing Credit.
8611 | Recapture of Low-Income Housing Credit.
8621 | Return by a Shareholder of a Passive Foreign Investment Co. or Qualified Electing Fund.
8621-A | Return by a Shareholder Making Certain Late Elections To End Treatment as a Passive Foreign Investment Company.
8697 | Interest Computation Under the Look-Back Method for Completed Long-Term Contracts.
8801 | Credit For Prior Year Minimum Tax—Individuals, Estates, and Trusts.
8820 | Orphan Drug Credit.
8824 | Like-Kind Exchanges.
8825 | Rental Real Estate Income and Expenses of a Partnership or an S Corporation.
8826 | Disabled Access Credit.
8829 | Expenses for Business Use of Your Home.
8830 | Enhanced Oil Recovery Credit.
8833 | Treaty-Based Return Position Disclosure Under Section 6114 or 7701(b).
8834 | Qualified Electric Vehicle Credit.
8835 | Renewable Electricity Production Credit.
8838 | Consent To Extend the Time To Assess Tax Under Section 367—Gain Recognition Agreement.
8838-P | Consent To Extend the Time To Assess Tax Pursuant to the Gain Deferral Method (Section 721(c)).
8844 | Empowerment Zone Employment Credit.
8845 | Indian Employment Credit.
8846 | Credit for Employer Social Security and Medicare Taxes Paid on Certain Employee Tips.
8855 | Election To Treat a Qualified Revocable Trust as Part of an Estate.
8858 | Information Return of U.S. Persons With Respect to Disregarded Entities (FDEs) and Foreign Branches (FBs).
8858 SCH M | Transactions Between Foreign Disregarded Entity (FDE) or Foreign Branch (FB) and the Filer or Other Related Entities.
8864 | Biodiesel, Renewable Diesel, or Sustainable Aviation Fuels Credit.
8865 | Return of U.S. Persons With Respect to Certain Foreign Partnerships.
8865 SCH G | Statement of Application for the Gain Deferral Method Under Section 721(c).
8865 SCH H | Acceleration Events and Exceptions Reporting Relating to Gain Deferral Method Under Section 721(c).
8865 SCH K-1 | Partner's Share of Income, Deductions, Credits, etc. (Schedule K-1 (Form 8865)).
8865 SCH K-2 | Schedule K-2 (Form 8865), Partners' Distributive Share Items—International.
8865 SCH K-3 | Partner's Share of Income, Deductions, Credits, etc.—International.
8865 SCH O | Transfer of Property to a Foreign Partnership.
8865 SCH P | Acquisitions, Dispositions, and Changes of Interests in a Foreign Partnership.
8866 | Interest Computation Under the Look-Back Method for Property Depreciated Under the Income Forecast Method.
8873 | Extraterritorial Income Exclusion.
8874 | New Markets Credit.
8879-F | U.S. Estate or Trust Declaration for an IRS e-file Return.
8881 | Credit for Small Employer Pension Plan Startup Costs.
8882 | Credit for Employer-Provided Child Care Facilities and Services.
8883 | Asset Allocation Statement Under Section 338.
8886 | Reportable Transaction Disclosure Statement.
8896 | Low Sulfur Diesel Fuel Production Credit.
8900 | Qualified Railroad Track Maintenance Credit.
8903 | Domestic Production Activities Deduction.
8904 | Credit for Oil and Gas Production From Marginal Wells.
8906 | Distilled Spirits Credit.
8908 | Energy Efficient Home Credit.
8911 | Alternative Fuel Vehicle Refueling Property Credit.
8911 SCH A | Alternative Fuel Vehicle Refueling Property Credit Amount.
8912 | Credit to Holders of Tax Credit Bonds.
8913 | Mine Rescue Team Training Credit.
8918 | Material Advisor Disclosure Statement.
8932 | Credit for Employer Differential Wage Payments.
8933 | Carbon Oxide Sequestration Credit.
8933 SCH A | Disposal or Enhanced Oil Recovery Owner Certification.
8933 SCH B | Disposal Operator Certification.
8933 SCH C | Enhanced Oil Recovery Operator Certification.
8933 SCH D | Recapture Certification.
8933 SCH E | Election Certification.
8933 SCH F | Utilization Certification.
8936 | Clean Vehicle Credits.
8938 | Statement of Specified Foreign Financial Assets.
8941 | Credit for Small Employer Health Insurance Premiums.
8949 | Sales and Other Dispositions of Capital Assets.
8960 | Net Investment Income Tax-Individuals, Estates, and Trusts.
8975 | Country-by-Country Report.
8975 SCH A | Tax Jurisdiction and Constituent Entity Information.
8978 | Partner's Additional Reporting Year Tax.
8978 SCH A | Partners Additional Reporting Year Tax.
8990 | Limitation on Business Interest Expense Under Section 163(j).
8992 | U.S Shareholder Calculation of Global Intangible Low-Taxed Income (GILTI).
8992 SCH A | Schedule A, for Global Intangible Low-Taxed Income (GILTI).
8994 | Employer Credit for Paid Family and Medical Leave.
8995 | Qualified Business Income Deduction Simplified Computation.
8995-A | Qualified Business Income Deduction.
8995-A SCH A | Specified Service Trades or Businesses.
8995-A SCH B | Aggregation of Business Operations.
8995-A SCH C | Loss Netting and Carryforward.
8995-A SCH D | Special Rules for Patrons of Agricultural or Horticultural Cooperatives.
8997 | Initial and Annual Statement of Qualified Opportunity Fund (QOF) Investments.
T | Forest Activities.

Appendix-B—Guidance Documents
Title/document | Description
Revenue Procedure 2009-20 | Safe harbor treatment for taxpayers that experienced losses in certain investment arrangements discovered to be criminally fraudulent.
Revenue Procedure 2009-26 | Examination of returns and claims for refund, credit or abatement; determination of correct tax liability.
Revenue Procedure 2009-52 | Examination of returns and claims for refund, credit or abatement; determination of correct tax liability.
Revenue Procedure 2019-38 | Trade or Business.
TD 8865 | Amortization of Intangible Property.
TD 9846 | Regulations Regarding the Transition Tax Under Section 965 and Related Provisions.
TD 9847 | Qualified Business Income Deduction.
TD 9902 | Guidance Under Sections 951A and 954 Regarding Income Subject to a High Rate of Foreign Tax.
TD 9918 | Effect of Section 67(g) on Trusts and Estates.
TD 9922 | Guidance Related to the Allocation and Apportionment of Deductions and Foreign Taxes, Foreign Tax Redeterminations, Foreign Tax Credit Disallowance Under Section 965(g), Consolidated Groups, Hybrid Arrangements and Certain Payments Under Section 951A.
TD 9936 | Guidance on Passive Foreign Investment Companies.
TD 9945 | Guidance Under Section 1061.
TD 9959 | Guidance Related to the Foreign Tax Credit; Clarification of Foreign-Derived Intangible Income.
TD 9998 | Increased Amounts of Credit or Deduction for Satisfying Certain Prevailing Wage and Registered Apprenticeship Requirements.
TD 10015 | Definition of Energy Property and Rules Applicable to the Energy Credit.

[FR Doc. 2025-13802 Filed 7-22-25; 8:45 am]

BILLING CODE 4830-01-P